DEPARTMENT OF HOMELAND SECURITY

Federal Emergency Management Agency

44 CFR Part 67

[Docket No. FEMA-P-7907]

Proposed Flood Elevation Determinations

AGENCY: Federal Emergency Management Agency (FEMA), Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and record keeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | # Depth in feet above ground *Elevation in feet (NGVD): Existing | # Depth in feet above ground *Elevation in feet (NGVD): Modified
OH | Madison County (Unincorporated Areas) | Big Darby Creek | Approximately 300 feet downstream of Conrail | *None | *917
|  |  | Approximately 100 feet upstream of Plain City-Dublin Road/State Route 161 | *None | *919
|  | Sugar Run | At confluence with Big Darby Creek | *None | *911
|  |  | Approximately 300 feet downstream of Plain City-Dublin Road/State Route 161 | *None | *918
Maps are available for inspection at 1 North Main Street, Room 208, London, Ohio.
Send comments to The Honorable David Dhume, Madison County Commissioner, 1 North Main Street, Post Office Box 618, London, Ohio 43140-0618.
OH | Plain City (Village) Madison and Union Counties | Big Darby Creek | Approximately 1,000 feet downstream of Conrail | *921 | *917
|  |  | Approximately 300 feet downstream of Noteman Road/State Route 23 | *926 | *921
|  | Sugar Run | At the northern Corporate Limit | *None | *920
|  |  | Approximately 350 feet downstream of southern Corporate Limit | *None | *919
Maps are available for inspection at 213 South Chillicothe Street, Plain City, Ohio.
Send comments to Mr. John Jordan, Jr., Public Works Supervisor, Village of Plain City, 213 South Chillicothe Street, Plain City, Ohio 43064.
OH | Union County (Unincorporated Areas). | Big Darby Creek (Near the Village of Plain City) | Approximately 3,250 feet downstream of Noteman Road | *None | *919
|  |  | Approximately 7,250 feet upstream of U.S. 42 | *None | *930
Maps are available for inspection at 233 West Sixth, Marysville, Ohio.
Send comments to The Honorable Gary Lee, Chairman, Union County Board of Commissioners, 233 West Sixth, Marysville, Ohio 43040.
WI | Pleasant Prairie (Village) Kenosha County | Des Plaines River | At Wisconsin/Illinois State Line | *674 | *676
|  |  | Just upstream of 120th Avenue | *None | *679
|  | Unnamed Tributary No. 1 to Des Plaines River | At Wisconsin/Illinois State Line. | *None | *676
|  |  | Approximately 11,000 feet upstream of Wisconsin/Illinois State Line | *None | *713
|  | Unnamed Tributary No. 1A to Des Plaines River | At confluence with Unnamed Tributary No. 1 to Des Plaines River | *None | *677
|  |  | At Wisconsin/Illinois State Line | *None | *717
|  | Unamed Tributary No. 1B to Des Plaines River | At confluence with Unnamed Tributary No. 1 to Des Plaines River | *None | *684
|  |  | Just downstream of confluence of Unnamed Tributary No. 1C to Des Plaines River | *None | *699
|  | Unnamed Tributary No. 1C to Des Plaines River | At confluence with Unnamed Tributary 1B to Des Plaines River | *None | *699
|  |  | Approximately 1.5 miles upstream of confluence with Unnamed Tributary 1B to Des Plaines River | *None | *737
|  | Unnamed Tributary No. 1E to Des Plaines River | Approximately 6,850 feet upstream of the confluence with Des Plaines River | *None | *677
|  |  | Approximately 2,757 feet upstream of U.S. Interstate 94 | *None | *725
|  | Unnamed Tributary No. 1F to Des Plaines River | Approximately 400 feet upstream of the confluence with Unnamed Tributary No. 1E to Des Plaines River | *None | *692
|  | Unnamed Tributary No. 1F to Des Plaines River | Approximately 1,600 feet upstream of the confluence with Unnamed Tributary No. 1E to Des Plaines River | *None | *707
|  | Unnamed Tributary No. 2 to Des Plaines River | At the confluence with Unnamed Tributary No. 1E to Des Plaines River | *None | *676
|  |  | Approximately 5,100 feet upstream of U.S. Interstate 94 | *None | *749
*National Geodetic Vertical Datum.
Maps are available for inspection at the Village Office, 9915 39th Avenue, Pleasant Prairie, Wisconsin.
Send comments to The Honorable John P. Steinbrink, Village President, Village Office, 9915 39th Avenue, Pleasant Prairie, Wisconsin 53158.

(Catalog of Federal Domestic Assistance No. 83.100, “Flood Insurance.”)

Dated: January 4, 2006.
David I. Maurstad,
Acting Director, Mitigation Division, Federal Emergency Management Agency, Department of Homeland Security.

[FR Doc. E6-2693 Filed 2-24-06; 8:45 am]

BILLING CODE 9110-12-P